FEDERAL MARITIME COMMISSION

Ocean Transportation Intermediary License; Reissuance of License

Notice is hereby given that the following Ocean Transportation Intermediary license has been reissued by the Federal Maritime Commission pursuant to section 19 of the Shipping Act of 1984, as amended by OSRA 1998 (46 U.S.C. app. 1718) and the regulations of the Commission pertaining to the licensing of Ocean Transportation Intermediaries, 46 CFR 515.

License No. | Name/Address | Date reissued
16790F | Atlantic Pacific Container Line, d/b/a APC Line, 333 Hamilton Blvd., Bldg. 10, South Plainfield, NJ 07080 | June 6, 2000.
10380N | Pana-York Maritima, Ltd., 411-A North Wood Avenue, Suite #5, Linden, NJ 07036 | June 1, 2000.

Sandra L. Kusumoto,
Director, Bureau of Consumer Complaints and Licensing.

[FR Doc. 00-26230 Filed 10-11-00; 8:45 am]

BILLING CODE 6730-01-P